DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part.

SUMMARY: The Department of Commerce (the Department) has received requests to conduct administrative reviews of various antidumping and countervailing duty orders and findings with December anniversary dates. In accordance with our regulations, we are initiating those administrative reviews. The Department also received requests to revoke one antidumping duty order in part.

DATES: Effective Date: February 1, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2004), for administrative reviews of various antidumping and countervailing duty orders and findings with December anniversary dates. The Department also received timely requests to revoke in part the antidumping duty order on Honey from Argentina with respect to two exporters.

Initiation of Reviews

In accordance with section 19 CFR 351.221(c)(1)(i), we are initiating administrative reviews of the following antidumping and countervailing duty orders and findings. We intend to issue the final results of these reviews not later than December 31, 2006.

Antidumping duty proceedings | Period to be reviewed
Argentina: Honey, A-357-812 | 12/01/04-11/30/05
Asociacion de Cooperativas Argentinas,
Agroin Las Piedras Ltda.,
Algodonera Avellaneda S.A.,
Alimentos Naturales-Natural Foods,
Apisur S.A.,
Baires Logistics SRL,
Campos Silvestres S.A.,
Compania Apicola Argentina SA,
El Mana, S.A.,
HoneyMax S.A.,
J.L. S.A.,
Mielar S.A.,
Naiman S.A.,
Nexco S.A.,
Nutrin S.A.,
Pueblanueva S.A.-Miel Emilia,
Radix S.r.L.,
Seylinco S.A.,
Ultramar Argentina SA.
Brazil: Silicomanganese, A-351-824 | 12/1/04-11/30/05
Rio Doce Manganes S.A.,
Companhia Paulista de Ferro-Ligas,
Urucum Mineracao S.A.
India: Certain Hot-Rolled Carbon Steel Flat Products, A-533-820 | 12/1/04-11/30/05
Essar Steel Ltd.
Stainless Steel Wire Rod, A-533-808 | 12/1/04-11/30/05
Mukand, Ltd.,
The Viraj Group (Viraj Alloys, Ltd., Viraj Forgings,
Ltd., Viraj Impoexpo Ltd., Viraj Smelting,
Viraj Profiles, and VSL Wires, Ltd.).¹
Taiwan: Certain Welded Stainless Steel Pipe, A-583-815 | 12/1/04-11/30/05
Froch Enterprise (formerly Jaung Yuann Enterprise Co., Ltd.).
The People's Republic of China: Carbazole Violet Pigment 23 ², A-570-892 | 6/24/04-11/30/05
Nantong Haidi Chemical Company,
Tianjin Hanchem International Trading Company, Ltd.,
Trust Chem Co., Ltd./Boson Enterprises Ltd.
Certain Cased Pencils ³, A-570-827 | 12/1/04-11/30/05
Beijing Dixon Stationery Company Ltd.,
China First Pencil Company, Ltd.*,
China First Pencil Fang Zheng Co.*,
Orient International Holding Shanghai Foreign Trade Co., Ltd.,
Shandong Rongxin Import & Export Co., Ltd.,
Shanghai First Writing Instrument Co., Ltd.*,
Shanghai Great Wall Pencil Co., Ltd.*,
Shanghai Three Star Stationary Industry Corp.*,
Tianjin Custom Wood Processing Co., Ltd..
Hand Trucks and Parts Thereof ⁴, A-570-891 | 5/24/04-11/30/05
Aulita Quindao Manufacturing Co., Ltd.,
Qingdao Huatian Hand Truck Co., Ltd.,
Qingdao Taifa Group Co., Ltd./Quindao Yinzhu Hand Truck Factory,
True Potential Co., Ltd.,
Qingdao Future Tool, Inc.,
Shandong Machinery I & E Group Corp.,
Formost Plastics & Metalworks (Jiaxing) Co., Ltd.,
Forecarry Corp.,
Since Hardware (Guangzhou) Co., Ltd.
Honey ⁵, A-570-863 | 12/1/04-11/30/05
Anhui Honghui Foodstuff (Group) Co., Ltd.,
Anhui Native Produce Import and Export Corporation,
Apiarist Co.,
Cheng Du Wai Yuan Bee Products Co., Ltd.,
Eurasia Bee's Products Co., Ltd.,
Foodworld International Club, Ltd.,
Henan Native Produce Import and Export Corporation,
High Hope International Group Jiangsu Foodstuffs Import and Export Corporation,
Inner Mongolia Autonomous Region Native Produce and Animal By-Products, Import and Export Corporation,
Inner Mongolia Autonomous Region Native Produce and Animal By-Products,
Inner Mongolia Youth Trade Development Co., Ltd.,
Jiangsu Kanghong Natural Healthfoods Co., Ltd.,
Jinfu Trading Co., Ltd.,
Kunshan Foreign Trading Company,
Kunshan Xin'an Trade Co., Ltd.,
Qinhuangdao Municipal Dafeng Industrial Co., Ltd.,
Shanghai Eswell Enterprise Company Ltd.,
Shanghai Shinomiel International Trade Corporation,
Shanghai Taiside Trading Co., Ltd.,
Shanghai Xiuwei International Trading Co., Ltd.,
Sichuan-Dujiangyan Dubao Bee Industrial Co., Ltd.,
Tianjin Eulia Honey Co., Ltd.,
Wuhan Bee Healthy Co., Ltd.,
Wuhan Shino-Food Trade Co., Ltd.,
Wuhu Qinshi Tangye,
Zhejiang Native Produce and Animal By-Products Import and Export Corporation, a.k.a. Zhejiang Native Produce and Animal By-Products Import and Export Group Corporation,
Zhejiang Willing Foreign Trading Co., Ltd.
Malleable Cast Iron Pipe Fittings ⁶, A-570-881 | 12/1/04-11/30/05
Beijing Sai Lin Ke Hardware Co., Ltd.
Argentina: Honey ⁷, C-357-813 | 1/1/05-12/31/05
India: Certain Hot-Rolled Carbon Steel Flat Products, C-533-821 | 1/1/05-12/31/05
Essar Steel, Ltd.
*We collapsed China First Pencil Co., Ltd. with Shanghai Three Star Stationary Industry Corp. and with its subsidiaries Shanghai First Writing Instrument Co., Ltd., Shanghai Great Wall Pencil Co., Ltd., and China First Pencil Fang Zheng Co., Ltd. in previous segments of this proceeding. For this review we consider these parties to constitute a single entity.
¹ The Department revoked the order in part with respect to entries of subject merchandise produced and exported by Viraj Alloys, Ltd., and VSL Wires, Ltd., effective December 1, 2003. See Stainless Steel Wire Rod from India: Final Results of Antidumping Duty Administrative Review and Determination to Revoke Order in Part, 70 FR 40318 (July 13, 2005). The Department is conditionally initiating a review with respect to Viraj Alloys, Ltd., Viraj Forgings, Ltd., Viraj Impoexpo Ltd., Viraj Smelting, Viraj Profiles, and VSL Wires, Ltd., pending further information from the requestor as to sales of subject merchandise not covered by the revocation.
² If one of the above named companies does not qualify for a separate rate, all other exporters of Carbazole Violet Pigment 23 from the People's Republic of China who have not qualified for a separate rate are deemed to be covered by this review as part of the single PRC entity of which the named exporters are a part.
³ If one of the above named companies does not qualify for a separate rate, all other exporters of Certain Cased Pencils from the People's Republic of China who have not qualified for a separate rate are deemed to be covered by this review as part of the single PRC entity of which the named exporters are a part.
⁴ If one of the above named companies does not qualify for a separate rate, all other exporters of Hand Trucks and Parts Thereof from the People's Republic of China who have not qualified for a separate rate are deemed to be covered by this review as part of the single PRC entity of which the named exporters are a part.
⁵ If one of the above named companies does not qualify for a separate rate, all other exporters of Honey from the People's Republic of China who have not qualified for a separate rate are deemed to be covered by this review as part of the single PRC entity of which the named exporters are a part. Additionally, for those companies for which we are conducting a new shipper review, this administrative review will only cover entries not covered by those new shipper reviews.
⁶ If one of the above named companies does not qualify for a separate rate, all other exporters of Malleable Cast Iron Pipe Fittings from the People's Republic of China who have not qualified for a separate rate are deemed to be covered by this review as part of the single PRC entity of which the named exporters are a part.
⁷ In accordance with section 351.213(b) of the regulations, the petitioners have requested an administrative review of this countervailing duty order. No individual exporters requested the review pursuant to section 351.213(b) of the regulations. Accordingly, the Department will be conducting the review of this order on an aggregate basis.

Suspension Agreements

None.

During any administrative review covering all or part of a period falling between the first and second or third and fourth anniversary of the publication of an antidumping duty order under § 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: January 27, 2006.
Thomas F. Futtner,
Acting Office Director AD/CVD Operations, Office 4 for Import Administration.

[FR Doc. E6-1344 Filed 1-31-06; 8:45 am]

BILLING CODE 3510-DS-P